DEPARTMENT OF ENERGY

Federal Energy Regulatory Commission

Combined Notice of Filings #1

Take notice that the Commission received the following exempt wholesale generator filings:

Docket Numbers: EG16-14-000.

Applicants: Utah Red Hills Renewable Park, LLC.

Description: Notice of Self-Certification of Exempt Wholesale Generator Status of Utah Red Hills Renewable Park, LLC.

Filed Date: 10/29/15.

Accession Number: 20151029-5259.

Comments Due: 5 p.m. ET 11/19/15.

Take notice that the Commission received the following electric rate filings:

Docket Numbers: ER15-1883-001; ER15-1418-001; ER10-1836-008; ER10-2005-008; ER11-26-008; ER10-1838-008; ER10-2551-007; ER10-1915-007; ER12-569-009; ER15-1925-001; ER10-1841-008; ER13-712-009; ER10-1843-008; ER10-1844-008; ER10-1845-008; ER10-1846-007; ER13-1991-005; ER13-1992-005; ER10-1847-007; ER10-1849-008; ER11-2037-008; ER13-752-007; ER12-2227-008; ER10-1851-006; ER10-1852-012; ER10-1855-007; ER10-1856-007; ER10-1857-007; ER10-1887-008; ER10-1890-007; ER10-1897-008; ER10-1899-008; ER10-1902-008; ER10-1903-008; ER11-2160-007; ER10-1905-008; ER10-1906-006; ER10-1907-008; ER10-1918-008; ER10-1920-010; ER10-1925-008; ER10-1927-008; ER10-1928-010; ER11-2642-008; ER10-1930-006; ER10-1931-007; ER10-1932-007; ER10-1935-007; ER10-1950-008; ER13-2112-003; ER15-2101-002; ER10-1952-008; ER15-2601-001; ER11-3635-007; ER10-2006-009; ER10-1961-008; ER12-1228-010; ER10-1962-007; ER10-1963-007; ER10-1964-008; ER10-1965-008; ER12-2226-006; ER12-2225-006; ER14-2138-003; ER10-1966-007; ER14-2707-005.

Applicants: Adelanto Solar, LLC, Adelanto Solar II, LLC, Ashtabula Wind, LLC, Ashtabula Wind II, LLC, Ashtabula Wind III, LLC, Backbone Mountain Windpower LLC, Baldwin Wind, LLC, Bayswater Peaking Facility, LLC, Blackwell Wind, LLC, Breckinridge Wind Project, LLC, Butler Ridge Wind Energy Center, LLC, Cimarron Wind Energy, LLC, Crystal Lake Wind, LLC, Crystal Lake Wind II, LLC, Crystal Lake Wind III, LLC, Day County Wind, LLC, Desert Sunlight 250, LLC, Desert Sunlight 300, LLC, Diablo Winds, LLC, Elk City Wind, LLC, Elk City II Wind, LLC, Energy Storage Holdings, LLC, Ensign Wind, LLC, ESI Vansycle Partners, L.P., Florida Power & Light Company, FPL Energy Burleigh County Wind, LLC, FPL Energy Cabazon Wind, LLC, FPL Energy Cape, LLC, FPL Energy Cowboy Wind, LLC, FPL Energy Green Power Wind, LLC, FPL Energy Hancock County Wind, LLC, FPL Energy Illinois Wind, LLC, FPL Energy Marcus Hook, L.P., FPL Energy MH50 L.P., FPL Energy Montezuma Wind, LLC, FPL Energy Mower County, LLC, FPL Energy New Mexico Wind, LLC, FPL Energy North Dakota Wind, LLC, FPL Energy North Dakota Wind II, LLC, FPL Energy Oklahoma Wind, LLC, FPL Energy Oliver Wind I, LLC, FPL Energy Oliver Wind II, LLC, FPL Energy Sooner Wind, LLC, FPL Energy South Dakota Wind, LLC, FPL Energy Stateline II, Inc., FPL Energy Vansycle, L.L.C, FPL Energy Wyman, LLC, FPL Energy Wyman IV, LLC, Garden Wind, LLC, Genesis Solar, LLC, Golden West Power Partners, LLC, Gray County Wind Energy, LLC, Green Mountain Storage, LLC, Hatch Solar Energy Center I, LLC, Hawkeye Power Partners, LLC, High Majestic Wind Energy Center, LLC, High Majestic Wind II, LLC, High Winds, LLC, Jamaica Bay Peaking Facility, LLC, Lake Benton Power Partners II, LLC, Langdon Wind, LLC, Limon Wind, LLC, Limon Wind II, LLC, Limon Wind III, LLC, Logan Wind Energy LLC, Mammoth Plains Wind Project, LLC.

Description: Notice of Change in Status of the NextEra Energy Companies [Part 1 of 2].

Filed Date: 10/28/15.

Accession Number: 20151028-5364.

Comments Due: 5 p.m. ET 11/18/15.

Docket Numbers: ER16-143-001.

Applicants: Citizens Sunrise Transmission LLC.

Description: Tariff Amendment: Amendment to TRBAA Filing to be effective 1/1/2016.

Filed Date: 10/28/15.

Accession Number: 20151028-5323.

Comments Due: 5 p.m. ET 11/18/15.

Docket Numbers: ER16-158-000.

Applicants: Southwest Power Pool, Inc.

Description: § 205(d) Rate Filing: Revisions to Attachment AE Regarding Pricing in the Context of Ramp Constraints to be effective 12/27/2015.

Filed Date: 10/28/15.

Accession Number: 20151028-5357.

Comments Due: 5 p.m. ET 11/18/15.

Docket Numbers: ER16-159-000.

Applicants: ISO New England Inc., New England Power Pool Participants Committee.

Description: § 205(d) Rate Filing: Removal of NEPOOL Review Board to be effective 1/1/2016.

Filed Date: 10/29/15.

Accession Number: 20151029-5108.

Comments Due: 5 p.m. ET 11/19/15.

Docket Numbers: ER16-160-000.

Applicants: New-Indy Ontario LLC.

Description: Baseline eTariff Filing: Application for MBR to be effective1/1/2016.

Filed Date: 10/29/15.

Accession Number: 20151029-5185.

Comments Due: 5 p.m. ET 11/19/15.

Docket Numbers: ER16-161-000.

Applicants: New-Indy Oxnard LLC.

Description: Baseline eTariff Filing: Application for MBR to be effective1/1/2016.

Filed Date: 10/29/15.

Accession Number: 20151029-5187.

Comments Due: 5 p.m. ET 11/19/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 29, 2015.
Nathaniel J. Davis, Sr.,
Deputy Secretary.

[FR Doc. 2015-28205 Filed 11-4-15; 8:45 am]

BILLING CODE 6717-01-P